DEPARTMENT OF TRANSPORTATION

Federal Railroad Administration

[Docket No. FRA-2003-0002-N-16]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before October 17, 2023.

ADDRESSES: Written comments and recommendations for the proposed ICR should be submitted on regulations.gov to the docket, Docket No. FRA-2023-0002. All comments received will be posted without change to the docket, including any personal information provided. Please refer to the assigned OMB control number (2130-0552) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Locomotive Cab Sanitation.

OMB Control Number: 2130-0552.

Abstract: FRA's locomotive cab sanitation standards, 49 CFR 229.137 and 229.139, prescribe minimum standards for the locomotive cab sanitation compartment, including the toilet facility. FRA uses the information collection associated with these provisions to promote rail safety and locomotive crew member health by ensuring crew member access to a functioning and sanitary toilet facility and that railroads timely repair defective and unsanitary conditions in the sanitation compartment.

In this 60-day notice, FRA has made a minor adjustment of less than one hour due to a rounding error. Additionally, FRA is updating the respondent universe from 746 railroads in the previous ICR to 784 railroads to reflect the changes that were made to the 2022 Railroad Classification Data.

Type of Request: Extension without change (with changes in estimates) of a currently approved information collection.

Affected Public: Businesses.

Form(s): N/A.

Respondent Universe: 784 railroads.

Frequency of Submission: On occasion.

Reporting Burden:

CFR section | Respondent universe | Total annual responses | Average time per response (seconds) | Total annual burden hours (hours) | Total cost equivalent in U.S. dollar
|  | (A) | (B) | (C = A * B) | (D = C * wage rates) ¹
229.21(a-b)—Daily inspection—Written report | The burden for this requirement is covered under OMB Control No. 2130-0004 under § 229.137 and § 229.139.
229.137(d)—Defective, unsanitary toilet facility; use in trailing position—Tagging | 784 railroads | 11,700 tags | 90 | 292.50 | $19,392.75
229.137(e)—Defective, sanitary toilet facility; use in switching, transfer service—Tagging | 784 railroads | 7,956 tags | 90 | 198.90 | 13,187.07
229.139(d)—Switching or transfer service—defective locomotive toilet facility—Notation on daily inspection report | 784 railroads | 93,600 notations | 30 | 780.00 | 51,714.00
Total | 784 railroads | 113,256 responses | N/A | 1,271 | 84,294

Total Estimated Annual Responses: 113,256.

¹ Totals may not add due to rounding. The dollar equivalent cost is derived from the 2022 Surface Transportation Board Full Year Wage A&B data series using the burdened hourly wage of employee groups, 400 (Maintenance of Equipment & Stores) $67.11, and 600 (Transportation, Train & Engine) $63.07. The wage rate is shared with group 400 accounting for 80% and group 600 accounting for 20%. The total burden wage rate (Straight time plus 75%) used in the table is $63.30. 80% of $67.11 = $53.69, 20% of $63.07 = $12.61 for a total of $66.30 hourly burdened wage rate.

Total Estimated Annual Burden: 1,271 hours.

Total Estimated Annual Burden Hour Dollar Cost Equivalent: $84,294.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-17751 Filed 8-17-23; 8:45 am]

BILLING CODE 4910-06-P